SOCIAL SECURITY ADMINISTRATION

[Docket No. SSA-2024-0012]

Privacy Act of 1974; Matching Program

AGENCY: Social Security Administration (SSA).

ACTION: Notice of a new matching program.

SUMMARY: In accordance with the provisions of the Privacy Act, as amended, this notice announces a new matching program with the Department of Homeland Security (DHS). This matching program sets forth the terms, conditions, and safeguards under which DHS will disclose information to SSA in order to identify noncitizens who leave the United States voluntarily and noncitizens who are removed from the United States.

DATES: Submit comments on the proposed matching program no later than August 19, 2024. The matching program will be applicable on January 19, 2025, or once a minimum of 30 days after publication of this notice have elapsed, whichever is later. The matching program will be in effect for a period of 18 months.

ADDRESSES: You may submit comments by any one of three methods—internet, fax, or mail. Do not submit the same comments multiple times or by more than one method. Regardless of which method you choose, please state that your comments refer to Docket No. SSA-2024-0012 so that we may associate your comments with the correct regulation. CAUTION: You should be careful to include in your comments only information that you wish to make publicly available. We strongly urge you not to include in your comments any personal information, such as Social Security numbers (SSN) or medical information.

1. Internet: We strongly recommend that you submit your comments via the internet. Please visit the Federal eRulemaking portal at http://www.regulations.gov. Use the Search function to find docket number SSA-2024-0012 and then submit your comments. The system will issue you a tracking number to confirm your submission. You will not be able to view your comment immediately because we must post each submission manually. It may take up to a week for your comments to be viewable.

2. Fax: Fax comments to (410) 966-0869.

3. Mail: Matthew Ramsey, Executive Director, Office of Privacy and Disclosure, Office of the General Counsel, Social Security Administration, 6401 Security Boulevard, Baltimore, MD 21235-6401, or emailing Matthew.Ramsey@ssa.gov. Comments are also available for public viewing on the Federal eRulemaking portal at http://www.regulations.gov or in person, during regular business hours, by arranging with the contact person identified below.

FOR FURTHER INFORMATION CONTACT: Interested parties may submit general questions about the matching program to Cynthia Scott, Division Director, Office of Privacy and Disclosure, Office of the General Counsel, Social Security Administration, G-401 WHR, 6401 Security Boulevard, Baltimore MD 21235-6401, at telephone: (410) 965-1416, or send an email to Cynthia.Scott@ssa.gov.

SUPPLEMENTARY INFORMATION: For functions of this matching program, “noncitizen” is synonymous with “noncitizen” as defined in section 1101(a)(3) of the Immigration and Nationality Act (8 U.S.C. 1101(a)(3)), meaning “any person not a citizen or national of the United States.”

Matthew Ramsey,
Executive Director, Office of Privacy and Disclosure, Office of the General Counsel.

Participating Agencies

SSA and DHS.

Authority for Conducting the Matching Program

This Agreement is executed under the Privacy Act of 1974, 5 U.S.C. 552a, as amended by the Computer Matching and Privacy Protection Act (CMPPA) of 1988, Public Law (Pub. L.) 100-503, 102 Stat. 2507 (1988), as amended, and the Computer Matching and Privacy Protection Amendments of 1990, and the regulations and guidance promulgated thereunder.

The CMPPA applies when computerized comparisons of Privacy Act-protected records contained within a Federal agency's databases and the records of another organization are made in order to determine an individual's eligibility to receive a Federal benefit. The CMPPA requires the parties participating in a matching program to execute a written agreement specifying the terms and conditions under which the matching program will be conducted.

Legal authorities for the disclosures under this Agreement are covered by various sections of the Social Security Act (Act).

• Section 202(n)(1) of the Act [42 U.S.C. 402(n)] requires the Secretary of Homeland Security to notify the Commissioner of Social Security when certain individuals are removed from the United States under sections 212(a)(6)(A) and 237(a) of the Immigration and Nationality Act (INA) (8 U.S.C. 1182(a)(6)(A) or 1227(a);

• Section 1611(a)(1) of the Act [42 U.S.C. 1382c(a)(1)] concerns the definition of eligible individuals;

• 8 U.S.C. 1611 mandates that non-qualified noncitizens (as defined in 8 U.S.C. 1641) do not receive Federal public benefits;

• 8 U.S.C. 1612 also places some limits on qualified noncitizens' ability to receive public benefits;

• Section 1631(e)(1)(B) of the Act [42 U.S.C. 1383(e)(1)(B)] requires SSA to verify declarations of applicants for and recipients of Supplemental Security Income (SSI) payments before making a determination of eligibility or payment amount;

• Section 1631(f) of the Act [42 U.S.C. 1383(f)] requires Federal agencies to provide SSA with information necessary to verify SSI eligibility or benefit amounts or to verify other information related to these determinations.

A. Noncitizens Who Leave the United States, Without Regard to Immigration Proceedings

Resident noncitizens eligible for SSI may receive payments for any month in which they reside in the United States. For purposes of SSI, the United States means, geographically, the 50 States, the District of Columbia, and the Northern Mariana Islands. 20 CFR 416.1603(c). Under section 1611(f) of the Act, an individual is ineligible for SSI benefits for any month during all of which he or she is outside the United States. Section 1611(f) of the Act further states that if an individual is absent from the United States for 30 consecutive days, SSA will treat the individual as remaining outside the United States until he or she has been in the United States for a period of 30 consecutive days. See 42 U.S.C. 1382(f) and 20 CFR 416.1327.

B. Noncitizens Who Are Removed, Voluntarily Depart, or Voluntarily Return to Their Home Country From the United States

The Social Security Protection Act of 2004, Public Law 108-203, amended the Act to expand the number of individuals who are subject to nonpayment of Social Security benefits. Thus, section 202(n)(1)(A) of the Act (42 U.S.C. 402(n)(1)(A)) prohibits payment of retirement or disability insurance benefits to number holders (NH) who have been removed from the United States on certain grounds specified under section 237(a) or section 212(a)(6)(A) of the INA (8 U.S.C. 1182(a)(6)(A), 1227(a)). SSA will not pay monthly retirement or disability benefits to such NHs for the month after the month in which the Secretary of Homeland Security notifies SSA of the NH's removal or before the month in which the NH is subsequently lawfully admitted to the United States for permanent residence.

Section 202(n)(1)(B) of the Act (42 U.S.C. 402(n)(1)(B)) prohibits payment of auxiliary or survivors benefits to certain individuals who are entitled to such benefits on the record of a NH who has been removed from the United States on certain grounds as specified in the above paragraph. Nonpayment of benefits is applicable for any month such auxiliary or survivor beneficiary is not a citizen of the United States and is outside the United States for any part of the month. Benefits cannot be initiated (or resumed) to such auxiliary or survivor beneficiaries who are otherwise subject to nonpayment under these provisions until the removed NH has been subsequently lawfully admitted for permanent residence to the United States.

In addition, certain individuals may be subject to suspension of their SSI payments under section 1614(a)(1)(B)(i) of the Act (42 U.S.C. 1382c(a)(1)(B)(i)), which provides, in part, that an SSI recipient must be a resident of the United States.

Purpose(s)

This matching program establishes the conditions under which DHS will disclose information to SSA in order to identify noncitizens who leave the United States voluntarily and noncitizens who are removed from the United States. These noncitizens may be subject to suspension of payments or nonpayment of benefits or both, and recovery of overpayments. SSA will use DHS data to determine if suspension of payments, nonpayment of benefits, and/or recovery of overpayments, is applicable.

Categories of Individuals

The individuals whose information is involved in this matching program are:

1. Noncitizens who leave the United States voluntarily and are subject to suspension or non-payment of SSI.

2. Noncitizens who are removed from the United States, voluntarily depart, or voluntarily return to their home country from the United States, and are subject to nonpayment of retirement or disability insurance benefits (RSDI). In addition, certain individuals may be subject to suspension of their SSI payments if they are not residents of the United States. If an SSI recipient is not a qualified noncitizen within the statutory definitions, they are ineligible for SSI benefits. A qualified noncitizen may have limited eligibility.

Categories of Records

1. Noncitizens Who Leave the United States Voluntarily

The data elements furnished by the DHS/U.S. Citizenship and Immigration Service's (USCIS) Benefits Information System (BIS) are the noncitizen's name, SSN, date of birth (DOB), Noncitizen Registration Number (“A” number), date of departure, and expected length of stay. To verify the SSN, SSA will match BIS data against the names, DOB, and SSNs in SSA's Enumeration System. SSA will store and match verified SSNs against the same elements in the Supplemental Security Income Record and Special Veteran Benefit (SSR) files.

2. Noncitizens Who Are Removed From the United States

The data elements furnished from DHS/U.S. Immigration and Customs Enforcement's (ICE) Enforcement Integrated Database (EID) are the individual's name and alias (if any), SSN (if available), DOB, country of birth, country to which removed, date of removal, the final removal charge code, and DHS' “A” number.

To verify the SSN, SSA will match EID data against records in its Enumeration System. SSA matches the verified SSNs against the existing Master Beneficiary Record (MBR) and SSR records to locate removals (and their dependents or survivors, if any) who have already claimed and are currently receiving RSDI, SSI benefits, or both. SSA will retain the data verified through this matching program on the MBR and SSR, to be associated with future claims activity.

System(s) of Records

1. Noncitizens Who Leave the United States Voluntarily (SSI)

DHS will disclose to SSA information from the DHS/USCIS-007 Benefits Information System, 84 FR 54622 (November 12, 2019). DHS will electronically format the BIS data for transmission to SSA. BIS data is comprised of data collected from USCIS immigration systems. USCIS data used to accomplish this matching agreement currently comes from the CLAIMS 3 database.

SSA will match the DHS information with SSA's systems of records: Master Files of SSN Holders and SSN Applications (Enumeration System), 60-0058, last fully published at 87 FR 263 (January 4, 2022);

In addition, SSA will match the DHS information with the SSR (60-0103) last fully published at 71 FR 1830 (January 11, 2006) and modified at 72 FR 69723 (December 10, 2007), 83 FR 31250-31251 (July 3, 2018), 83 FR 54969 (November 1, 2018), 89 FR 825 (January 5, 2024), and 89 FR 14554 (February 27, 2024).

2. Noncitizens Who Are Removed From the United States

DHS will retrieve information on removed noncitizens from the DHS/ICE EID database and electronically format it for transmission to SSA, and as covered by DHS/ICE-011-Criminal Arrest Records and Immigration Enforcement Records (CARIER), published at 81 FR 72080 (October 19, 2016), to the extent that those records pertain to individuals under the Privacy Act or covered persons under the Judicial Redress Act of 2015 (5 U.S.C. 552a, note).

The SSA systems of records used in the match program are include:

• Master Files of SSN Holders and SSN Applications (60-0058), last fully published at 87 FR 263 (January 4, 2022);

• SSR (60-0103), last fully published at 71 FR 1830 (January 11, 2006) and modified at 72 FR 69723 (December 10, 2007), 83 FR 31250-31251 (July 3, 2018), 83 FR 54969 (November 1, 2018), 89 FR 825 (January 5, 2024), and 89 FR 14554 (February 27, 2024);

• MBR (60-0090), last fully published at 71 FR 1826 (January 11, 2006) and modified at 72 FR 69723 (December 10, 2007), 78 FR 40542 (July 5, 2013), 83 FR 31250-31251 (July 3, 2018), 83 FR 54969 (November 1, 2018), 89 FR 825 (January 5, 2024), and 89 FR 14554 (February 27, 2024); and

• Prisoner Update Processing System (PUPS) (60-0269), last fully published at 64 FR 11076 (March 8, 1999), and modified at 72 FR 69723 (December 10, 2007), 78 FR 40542 (July 5, 2013), and 83 FR 54969 (November 1, 2018).

The Unverified Prisoner System (UPS) is a subsystem of PUPS. UPS users perform a manual search of fallout cases where the Enumeration and Verification System is unable to locate an SSN for a noncitizen who has been removed.

The systems of records involved in this computer matching program have routine uses permitting the disclosures needed to conduct this match.

[FR Doc. 2024-15918 Filed 7-18-24; 8:45 am]

BILLING CODE 4191-02-P